FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 20, 2009.

A. Federal Reserve Bank of Cleveland (Nadine Wallman, Vice President) 1455 East Sixth Street, Cleveland, Ohio 44101-2566:

1. The Davis family, consisting of Clay Parker Davis; Jodie Davis Owings; Scott H. Owings; Charles W. Owings; The Cooper Family, consisting of Cornelia D. Cooper, individually, and as Executrix of The Estate of Richard E. Cooper, all of Somerset Kentucky; Cornelia C. Vaughan; Frank D. Cain, both of Lexington, Kentucky; The Merrick family, consisting of Odell Merrick; Deborah L. Merrick—Eades; Cameron D. Merrick; Stephanie D. Merrick; Stephen D. Merrick; The Rakestraw family, consisting of Harris Rakestraw, III; Angel L. Rakestraw—Godby; Joy B. Carroll; Harris Rakestraw, III and Connie Belle Harris—Rakestraw, as Co—Trustees of The Benjamin H. Rakestraw—Godby Irrevocable Trust; The Waddle family, consisting of Cy Waddle, individually, and as Trustee of The Cy Waddle Revocable Living Trust; Gary C. Waddle; Thomas P. Waddle; Jean Waddle, individually, and as Trustee of The Jean Waddle Revocable Living Trust; The Hawkins Family, consisting of Virginia Hawkins, individually, and as Trustee of the James F. Hawkins Revocable Living Trust; James F. Hawkins, III; Judith A. Holtzclaw; James Hawkins, IV; Samantha Jo Hawkins; Amy Barnett, all of Somerset, Kentucky; and Marsha E. Hawkins—Barnett, Corbin, Kentucky; to acquire voting shares of Citizens Bancshares, Inc., and thereby indirectly acquire voting shares of Citizens National Bank of Somerset, both of Somerset, Kentucky.

B. Federal Reserve Bank of Kansas City (Todd Offenbacker, Assistant Vice President) 1 Memorial Drive, Kansas City, Missouri 64198-0001:

1. David G. Trimble, Vici, Oklahoma; as trustee of the Glenn W. Trimble, Jr. Trust, to retain control of Vici Bancorporation, and thereby indirectly retain control of Bank of Vici, both in Vici, Oklahoma.

Board of Governors of the Federal Reserve System, November 2, 2009.
Robert deV. Frierson,
Deputy Secretary of the Board.

[FR Doc. E9-26694 Filed 11-4-09; 8:45 am]

BILLING CODE 6210-01-S